DEPARTMENT OF JUSTICE

Notice of Lodging of Consent Decree Amendment Under the Clean Air Act

Under 28 C.F.R. § 50.7, notice is hereby given that on March 11, 2005, a First Amendment to the August 2001 Consent Decree in the matter of United States, et al. v. Marathon Ashland Petroleum LLC, Civil Action No. 4:01-CV-40119-PVG, was lodged with the United States District Court for the Eastern District of Michigan.

The First Amendment to the August 2001 Consent Decree (“First Amendment”) amends a consent decree entered among the United States, as Plaintiff, the County of Wayne, the State of Louisiana, and the State of Minnesota, as Plaintiff-Intervenors, and Marathon Ashland Petroleum LLC (“MAP”), as Defendant. In the August 2001 Consent Decree, MAP agreed, to undertake, inter alia, numerous projects to reduce emissions of air pollutants at seven refineries that MAP owns and operates. The proposed First Amendment exclusively involves MAP's refinery in Texas city, Texas. Under the First Amendment, MAP will: (1) Receive an exemption from compliance with the sulfur dioxide emissions limits of the New Source Performance Standards, 40 CFR 60.104(a)(1), at two of MAP's heaters at the Texas City Refinery during limited periods between March 1, 2005, and February 28, 2006, provided that MAP meets certain requirements during those limited periods; (2) accept a permanent reduction of the emissions limitation at the Refinery's fluidized catalytic cracking unit (“FCCU”) from 25 ppm to 20 ppm on 365-day rolling average basis, at 0% oxygen; (3) advance by six months the NSPS compliance date of a new sulfur recovery plant that MAP will be installing at the Refinery; (4) advance by five months the NSPS compliance date of six heaters and boilers at the Refinery that currently are not subject to NSPS; (5) limit total sulfur dioxide emissions from the Texas City Refinery to those set forth in MAP's current Texas state permit; and (6) spend no less than $100,000 to install diesel retrofit technologies on no less than seven sanitation trucks owned and operated by Texas City, Texas.

The Department of Justice will receive for a period of fifteen (15) days from the date of this publication comments relating to the Consent Decree. Comments should be addressed to the Assistant Attorney General, Environment and Natural Resources Division, P.O. Box 7611, U.S. Department of Justice, Washington, DC 20044-7611, and should refer to United States, et al. v. Marathon Ashland Petroleum LLC, D.J. Ref. No. 90-5-2-1-07247.

The First Amendment may be examined at the Office of the United States Attorney, 211 W. Fort St., Suite 2300, Detroit, Michigan 48226, and at U.S. EPA Region 6, 1445 Ross Avenue, Dallas, Texas 75202-2733. During the public comment period, the First Amendment may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $2.75 (25 cents per page reproduction cost) payable to the U.S. Treasury.

Robert D. Brook,
Assistant Section Chief, Environment Enforcement Section, Environment and Natural Resources Division.

[FR Doc. 05-5769 Filed 3-22-05; 8:45 am]

BILLING CODE 4410-IS-M